DEPARTMENT OF COMMERCE

National Oceanic and Atmospheric Administration

[I.D. 030404E]

Endangered and Threatened Species; Take of Anadromous Fish

AGENCY: National Marine Fisheries Service (NMFS), National Oceanic and Atmospheric Administration (NOAA), Commerce.

ACTION: Notice of availability and request for comment.

SUMMARY: Notice is hereby given that NMFS has prepared a draft Environmental Assessment (EA) under the National Environmental Policy Act (NEPA) of the impacts on the human environment of the potential issuance of an enhancement permit authorizing take of listed chinook salmon in Johnson Creek, a tributary of the East Fork South Fork Salmon River in Idaho, associated with the operation of an artificial propagation program. The objectives of the program, which would be operated by the Nez Perce Tribe, are to conduct artificial propagation and research activities to enhance the propagation and survival of the population of naturally spawning summer chinook salmon in Johnson Creek, which are listed under the Endangered Species Act (ESA) as part of the threatened Snake River spring/summer chinook salmon Evolutionarily Significant Unit (ESU). This document serves to notify the public of the availability of the draft EA for review and comment before a final decision on whether to issue a Finding of No Significant Impact is made by NMFS.

DATES: Written comments on the draft EA must be received at the appropriate address or fax number (see ADDRESSES) no later than 5 p.m. Pacific standard time on April 12, 2004.

ADDRESSES: Written comments and requests for copies of the draft EA should be addressed to Herb Pollard, Salmon Recovery Division, 10215 W. Emerald, Suite 180, Boise, ID 83704, or faxed to (208) 378-5699. Comments on this draft EA may be submitted by e-mail. The mailbox address for providing e-mail comments is JCAPE.nwr@noaa.gov. Include in the subject line the following document identifier: “JCAPE permit assessment”. The documents are also available on the Internet at http://www.nwr.noaa.gov/1sustfsh/10permits/.

FOR FURTHER INFORMATION CONTACT: Herb Pollard, Boise, ID, at phone number (208) 378-5614 or e-mail: herbert.pollard@noaa.gov.

SUPPLEMENTARY INFORMATION: This notice is relevant to the following species and evolutionarily significant units (ESUs):

Chinook salmon (Oncorhynchus tshawytscha): threatened Snake River spring/summer-run.

Steelhead (O. mykiss): threatened Snake River Basin.

Background

NEPA requires Federal agencies to conduct an environmental analysis of their proposed actions to determine if the actions may affect the human environment. NMFS expects to take action on an ESA section 10(a)(1)(A) submittal received from the applicants. Therefore the Service is seeking public input on the scope of the required NEPA analysis, including the range of reasonable alternatives and associated impacts of any alternatives.

The Columbia River Intertribal Fish Commission (CRITFC) has submitted an application for a section 10(a)(1)(A) enhancement permit for operation of an artificial propagation program on Johnson Creek, ID. Notice of receipt of this permit application was published in the Federal Register on May 11, 2000 (65 FR 30391) and closed on June 12, 2000.

The primary goal of CRITFC's proposed hatchery supplementation program is to increase the abundance of the natural chinook salmon population in Johnson Creek and to avoid further losses of the genetic variation that may be necessary to recover the population. NMFS proposes to issue a section 10(a)(1)(A) permit for operation of the program to rear and release approximately 100,000 juveniles annually. The artificial propagation action would include collecting and spawning adult threatened Snake River spring/summer chinook salmon, using the resulting progeny in scientific research, enhancing the propagation or survival of the listed population, and subsequently releasing juveniles that are the progeny of listed fish into the wild. The Nez Perce Tribe, acting under the permit requested by CRITFC, also proposes to install and operate a weir, a trap, and holding facilities for collection of listed Snake River spring/summer chinook salmon adults from Johnson Creek to enhance the propagation and conduct research on the listed species of salmon.

The general effects on the environment considered include the impacts on the physical, biological, and socioeconomic environments of the Snake River Basin, particularly in the Johnson Creek sub-basin.

Dated: March 8, 2004.
Phil Williams,
Chief, Endangered Species Division, Office of Protected Resources, National Marine Fisheries Service.

[FR Doc. 04-5697 Filed 3-11-04; 8:45 am]

BILLING CODE 3510-22-S